SECURITIES AND EXCHANGE COMMISSION

[SEC File No. 270-247; OMB Control No. 3235-0259]

Submission for OMB Review; Comment Request

Upon Written Request Copies Available From: U.S. Securities and Exchange Commission, Office of FOIA Services, 100 F Street NE., Washington, DC 20549-2736.

Reinstatement:

Rule 19h-1

Notice by a Self-Regulatory Organization of Proposed Admission to or Continuance in Membership or Participation or Association with a Member of Any Person Subject to a Statutory Disqualification, and Applications to the Commission for Relief Therefrom.

Notice is hereby given that, pursuant to the Paperwork Reduction Act of 1995 (44 U.S.C. 3501 et seq.), the Securities and Exchange Commission (“Commission”) has submitted to the Office of Management and Budget (“OMB”) a request for approval of a reinstatement, with change, of a previously approved collection for which approval has expired—Rule 19h-1, Notice by a Self-Regulatory Organization of Proposed Admission to or Continuance in Membership or Participation or Association with a Member of Any Person Subject to a Statutory Disqualification, and Applications to the Commission for Relief Therefrom (17 CFR 240.19h-1).

Rule 19h-1 (“Rule”) under the Securities Exchange Act of 1934 (the “Exchange Act”) prescribes the form and content of notices and applications by self-regulatory organizations (“SROs”) regarding proposed admissions to, or continuances in, membership, participation or association with a member of any person subject to a statutory disqualification.

The Commission uses the information provided in the submissions filed pursuant to Rule 19h-1 to review decisions of SROs to permit the entry into or continuance in the securities business of persons who have committed serious misconduct. The filings submitted pursuant to the Rule also permit inclusion of an application to the Commission for consent to associate with a member of an SRO notwithstanding a Commission order barring such association.

The Commission reviews filings made pursuant to the Rule to ascertain whether it is in the public interest to permit the employment in the securities business of persons subject to a statutory disqualification. The filings contain information that is essential to the staff's review and ultimate determination on whether an association or employment is in the public interest and consistent with investor protection. Without these filings, persons subject to a statutory disqualification could reenter or continue employment in the securities business without the Commission's critical review of their character, ability to act as a fiduciary, and their employer's plan of supervision. The failure to collect and review this information could result in significant harm to the investing public.

The Commission estimates the annual burden of responding to this collection of information is as follows.

Burden Hours
| 19h-1(a)—Notice of admission or continuance notwithstanding a statutory disqualification | 19h-1(a)(4)— Notification of proposed admission or continuance pursuant to an exception from the notice requirements | 19h-1(b)— Preliminary notifications | 19h-1(d)— Application to the Commission for relief from certain statutory disqualifications
Estimated number of respondents = | 20 | 20 | 20 | 20
Estimated number of annual responses per respondent = | 11 | 9 | 28 | 5
Estimated annual reporting burden per response = | 80 | 80 | 13 | 80

Burden Hours
Estimated total annual reporting burden = | 17,600 (20 respondents × 11 annual responses per respondent × 80 hours per respondent) | 14,400 (20 respondents × 9 annual responses per respondent × 80 hours per respondent) | 7,280 (20 respondents × 28 annual responses per respondent × 13 hours per respondent) | 8,000 (20 respondents × 5 annual responses per respondent × 80 hours per respondent).

The Commission may not conduct or sponsor a collection of information unless it displays a currently valid control number. No person shall be subject to any penalty for failing to comply with a collection of information subject to the PRA that does not display a valid OMB control number.

The public may view background documentation for this information collection at the following Web site, www.reginfo.gov. Persons submitting comments on the collection of information requirements should direct them to (i) the Office of Management and Budget, Attention: Desk Officer for the Securities and Exchange Commission, Office of Information and Regulatory Affairs, Washington, DC 20503, and (ii) Pamela Dyson, Director/Chief Information Officer, Securities and Exchange Commission, c/o Remi Pavlik-Simon, 100 F Street NE., Washington DC, 20549, or send an email to: PRA_Mailbox@sec.gov. Comments should reference SEC File No. 270-247. Comments must be submitted to OMB within 30 days of this notice.

Dated: December 30, 2015.
Jill M. Peterson,
Assistant Secretary.

[FR Doc. 2015-33216 Filed 1-6-16; 8:45 am]

BILLING CODE 8011-01-P